DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Date: December 21, 2016.
Roy E. Wright,
Deputy Associate Administrator for Insurance and Mitigation, Department of Homeland Security, Federal Emergency Management Agency.

State and county | Location and case No. | Chief executive officer of community | Community map repository | Effective date of modification | Community No.
Alabama:
Etowah (FEMA Docket No.: B-1645) | City of Gadsden (16-04-2081P) | The Honorable Sherman Guyton, Mayor, City of Gadsden, 90 Broad Street, Gadsden, AL 35902 | City Hall, 90 Broad Street, Gadsden, AL 35902 | October 6, 2016 | 010080
Etowah (FEMA Docket No.: B-1645) | City of Rainbow City (16-04-2081P) | The Honorable Terry J. Calhoun, Mayor, City of Rainbow City, 3700 Rainbow Drive, Rainbow City, AL 35906 | City Hall, 3700 Rainbow Drive, Rainbow City, AL 35906 | October 6, 2016 | 010351
Etowah (FEMA Docket No.: B-1645) | Unincorporated areas of Etowah County (16-04-2081P) | The Honorable Lewis Fuller, President, Etowah County Commission, 800 Forrest Avenue, Suite 113, Gadsden, AL 35901 | Etowah County Courthouse, 800 Forrest Avenue, Suite 3, Gadsden, AL 35901 | October 6, 2016 | 010077
Jefferson (FEMA Docket No.: B-1645) | City of Trussville (15-04-A460P) | The Honorable Eugene Melton, Mayor, City of Trussville, 131 Main Street, Trussville, AL 35173 | City Hall, 131 Main Street, Trussville, AL 35173 | September 29, 2016 | 010133
Jefferson (FEMA Docket No.: B-1645) | Unincorporated areas of Jefferson County (15-04-A460P) | The Honorable James A. Stephens, Chairman, Jefferson County Commission, 716 Richard Arrington Jr. Boulevard North, Birmingham, AL 35203 | Jefferson County Land Development Department, 716 Richard Arrington Jr. Boulevard North, Birmingham, AL 35203 | September 29, 2016 | 010217
Arkansas:
Pulaski (FEMA Docket No.: B-1637) | City of North Little Rock (15-06-4244P) | The Honorable Joe Smith, Mayor, City of North Little Rock, P.O. Box 5757, North Little Rock, AR 72119 | Planning Department, 120 Main Street, North Little Rock, AR 72114 | September 23, 2016 | 050182
Pulaski (FEMA Docket No.: B-1637) | City of Sherwood (15-06-4244P) | The Honorable Virginia Hillman Young, Mayor, City of Sherwood, P.O. Box 6256, Sherwood, AR 72120 | Engineering, Permit and Planning Department, 2199 East Kiehl Avenue, Sherwood, AR 72124 | September 23, 2016 | 050235
Sebastian (FEMA Docket No.: B-1645) | City of Fort Smith (15-06-0085P) | Mr. Jeff Dingman, Acting Administrator, City of Fort Smith, P.O. Box 1908, Fort Smith, AR 72902 | City Hall, 623 Garrison Avenue, Fort Smith, AR 72901 | October 6, 2016 | 055013
Colorado:
Denver (FEMA Docket No.: B-1637) | City and County of Denver (16-08-0657P) | The Honorable Michael B. Hancock, Mayor, City and County of Denver, 1437 Bannock Street, Suite 350, Denver, CO 80202 | Department of Public Works, 201 West Colfax Avenue, Denver, CO 80202 | September 29, 2016 | 080046
El Paso (FEMA Docket No.: B-1637) | City of Fountain (16-08-0082P) | The Honorable Gabriel Ortega, Mayor, City of Fountain, 116 South Main Street, Fountain, CO 80817 | Planning Division, 116 South Main Street, Fountain, CO 80817 | September 29, 2016 | 080061
El Paso (FEMA Docket No.: B-1637) | Unincorporated areas of El Paso County (16-08-0082P) | The Honorable Amy Lathen, Chair, El Paso County Board of Commissioners, 200 South Cascade Avenue, Suite 100, Colorado Springs, CO 80903 | El Paso County Regional Development Center, 2880 International Circle, Colorado Springs, CO 80910 | September 29, 2016 | 080059
Jefferson (FEMA Docket No.: B-1645) | Unincorporated areas of Jefferson County (15-08-0549P) | The Honorable Libby Szabo, Chair, Jefferson County Board of Commissioners, 100 Jefferson County Parkway, Golden, CO 80419 | Jefferson County Planning and Zoning Division, 100 Jefferson County Parkway, Golden, CO 80419 | October 7, 2016 | 080087
Connecticut:
Fairfield (FEMA Docket No.: B-1637) | Town of Trumbull (16-01-0265P) | The Honorable Timothy M. Herbst, First Selectman, Town of Trumbull Board of Selectmen, 5866 Main Street, Trumbull, CT 06611 | Town Hall, 5866 Main Street, Trumbull, CT 06611 | September 23, 2016 | 090017
Middlesex (FEMA Docket No.: B-1645) | Town of Old Saybrook (16-01-0590P) | The Honorable Carl P. Fortuna, Jr., First Selectman, Town of Old Saybrook Board of Selectmen, 302 Main Street, Old Saybrook, CT 06475 | Town Hall, 302 Main Street, Old Saybrook, CT 06475 | October 7, 2016 | 090069
Florida:
Collier (FEMA Docket No.: B-1645) | City of Marco Island (16-04-2785P) | The Honorable Bob Brown, Chairman, City of Marco Island Council, 50 Bald Eagle Drive, Marco Island, FL 34145 | City Hall, 50 Bald Eagle Drive, Marco Island, FL 34145 | October 7, 2016 | 120426
Flagler (FEMA Docket No.: B-1637) | City of Bunnell (16-04-2729P) | The Honorable Catherine Robinson, Mayor, City of Bunnell, P.O. Box 756, Bunnell, FL 32110 | City Hall, 201 West Moody Boulevard, Bunnell, FL 32110 | September 22, 2016 | 120086
Flagler (FEMA Docket No.: B-1637) | City of Palm Coast (16-04-2729P) | The Honorable Jon Netts, Mayor, City of Palm Coast, 160 Lake Avenue, Palm Coast, FL 32164 | City Hall, 160 Lake Avenue, Palm Coast, FL 32164 | September 22, 2016 | 120684
Hillsborough (FEMA Docket No.: B-1637) | Unincorporated areas of Hillsborough County (16-04-3005P) | Mr. Mike Merrill, Hillsborough County Administrator, P.O. Box 1110, Tampa, FL 33601 | Hillsborough County Administrator's Office, 601 East Kennedy Boulevard, 26th Floor, Tampa, FL 33602 | September 26, 2016 | 120112
Orange (FEMA Docket No.: B-1637) | Unincorporated areas of Orange County (16-04-4432X) | The Honorable Teresa Jacobs, Mayor, Orange County, 201 South Rosalind Avenue, 5th Floor, Orlando, FL 32801 | Orange County Government Office, 201 South Rosalind Avenue, 1st Floor, Orlando, FL 32801 | September 19, 2016 | 120179
Volusia (FEMA Docket No.: B-1645) | City of DeBary (16-04-4470P) | The Honorable Clint Johnson, Mayor, City of DeBary, 16 Colomba Road, DeBary, FL 32713 | City Hall, 16 Colomba Road, DeBary, FL 32713 | October 5, 2016 | 130322
Georgia:
Grady (FEMA Docket No.: B-1637) | Unincorporated areas of Grady County (16-04-4551X) | The Honorable Charlie Norton, Chairman, Grady County Board of Commissioners, 250 North Broad Street, Cairo, GA 39828 | Grady County Code Enforcement Division, 250 North Broad Street, Cairo, GA 39828 | September 29, 2016 | 130096
Gwinnett (FEMA Docket No.: B-1645) | Unincorporated areas of Gwinnett County (16-04-2468P) | The Honorable Charlotte J. Nash, Chair, Gwinnett County Board of Commissioners, 75 Langley Drive, Lawrenceville, GA 30046 | Gwinnett County Stormwater Management Division, 684 Winder Highway, Lawrenceville, GA 30045 | October 11, 2016 | 130322
Lee (FEMA Docket No.: B-1645) | City of Leesburg (16-04-3621P) | The Honorable Jim Quinn, Mayor, City of Leesburg, P.O. Box 890, Leesburg, GA 31763 | City Hall, 107 Walnut Avenue South, Leesburg, GA 31763 | October 13, 2016 | 130348
Lee (FEMA Docket No.: B-1645) | Unincorporated areas of Lee County (16-04-3621P) | The Honorable Rick Muggridge, Chairman, Lee County Board of Commissioners, 110 Starksville Avenue North, Leesburg, GA 31763 | Lee County Administration Building, 110 Starksville Avenue North, Leesburg, GA 31763 | October 13, 2016 | 130122
Kentucky:
Hardin (FEMA Docket No.: B-1637) | City of Elizabethtown (15-04-8215P) | The Honorable Edna Berger, Mayor, City of Elizabethtown, P.O. Box 550, Elizabethtown, KY 42702 | City Hall, 200 West Dixie Avenue, Elizabethtown, KY 42701 | September 19, 2016 | 210095
Hardin (FEMA Docket No.: B-1637) | Unincorporated areas of Hardin County (15-04-8215P) | The Honorable Harry L. Berry, Hardin County Judge/Executive, P.O. Box 568, Elizabethtown, KY 42702 | Hardin County Government Building, 150 North Provident Way, Elizabethtown, KY 42701 | September 19, 2016 | 210094
Maine: Knox (FEMA Docket No.: B-1637) | Town of Owls Head (16-01-1529P) | The Honorable Linda Post, Chair, Town of Owls Head Board of Selectmen, P.O. Box 128, Owls Head, ME 04854 | Town Hall, 224 Ash Point Drive, Owls Head, ME 04854 | September 23, 2016 | 230075
Massachusetts:
Norfolk (FEMA Docket No.: B-1645) | Town of Weymouth (15-01-2574P) | The Honorable Robert L. Hedlund, Mayor, Town of Weymouth, 75 Middle Street, Weymouth, MA 02189 | City Hall, 75 Middle Street, Weymouth, MA 02189 | September 29, 2016 | 250257
Worcester (FEMA Docket No.: B-1645) | City of Fitchburg (15-01-2126P) | The Honorable Stephen L. DiNatale, Mayor, City of Fitchburg, 166 Boulder Drive, Suite 108, Fitchburg, MA 01420 | Community Development Department, Planning Division, 301 Broad Street, Fitchburg, MA 01420 | October 6, 2016 | 250304
Worcester (FEMA Docket No.: B-1645) | City of Leominster (15-01-2126P) | The Honorable Dean J. Mazzarella, Mayor, City of Leominster, 25 West Street, Leominster, MA 01453 | Office of Emergency Management, 37 Carter Street, Leominster, MA 01453 | October 6, 2016 | 250314
Oklahoma:
Oklahoma (FEMA Docket No.: B-1637) | City of The Village (14-06-4742P) | The Honorable Hutch Hibbard, Mayor, City of The Village, 2304 Manchester Drive, The Village, OK 73120 | Building and Code Department, 2304 Manchester Drive, The Village, OK 73120 | October 10, 2016 | 400420
Tulsa (FEMA Docket No.: B-1637) | City of Broken Arrow (14-06-4075P) | The Honorable Craig Thurmond, Mayor, City of Broken Arrow, 220 South 1st Street, Broken Arrow, OK 74012 | Operations Building, 485 North Poplar Avenue, Broken Arrow, OK 74012 | October 3, 2016 | 400236
Wagoner (FEMA Docket No.: B-1637) | Unincorporated areas of Wagoner County (14-06-4075P) | The Honorable Chris Edwards, Chairman, Wagoner County Board of Commissioners, P.O. Box 156, Wagoner, OK 74477 | Wagoner County Courthouse, 307 East Cherokee Street, Wagoner, OK 74467 | October 3, 2016 | 400215
South Carolina:
Charleston (FEMA Docket No.: B-1637) | Town of Mount Pleasant (16-04-3547P) | The Honorable Linda Page, Mayor, Town of Mount Pleasant, 100 Ann Edwards Lane, Mount Pleasant, SC 29464 | Planning Department, 100 Ann Edwards Lane, Mount Pleasant, SC 29464 | October 3, 2016 | 455417
Charleston (FEMA Docket No.: B-1637) | Unincorporated areas of Charleston County (16-04-3547P) | The Honorable J. Elliott Summey, Chairman, Charleston County Board of Commissioners, 4045 Bridge View Drive, North Charleston, SC 29405 | Charleston County Building Inspection Services Department, 4045 Bridge View Drive, North Charleston, SC 29405 | October 3, 2016 | 455413
Horry (FEMA Docket No.: B-1645) | City of Myrtle Beach (16-04-2072P) | The Honorable John T. Rhodes, Mayor, City of Myrtle Beach, P.O. Box 2468, Myrtle Beach, SC 29577 | Construction Services Department, 921 North Oak Street, Myrtle Beach, SC 29577 | September 26, 2016 | 450109
South Dakota:
Minnehaha (FEMA Docket No.: B-1637) | City of Hartford (16-08-0101P) | The Honorable Bill Campbell, Mayor, City of Hartford, 125 North Main Avenue, Hartford, SD 57033 | City Hall, 125 North Main Avenue, Hartford, SD 57033 | September 23, 2016 | 460180
Minnehaha (FEMA Docket No.: B-1637) | Unincorporated areas of Minnehaha County (16-08-0101P) | The Honorable Cindy Heiberger, Chair, Minnehaha County Board of Commissioners, 415 North Dakota Avenue, Sioux Falls, SD 57104 | Minnehaha County Administration Building, 415 North Dakota Avenue, Sioux Falls, SD 57104 | September 23, 2016 | 460057
Tennessee:
Washington (FEMA Docket No.: B-1637) | City of Johnson City (16-04-1191P) | The Honorable Clayton Stout, Mayor, City of Johnson City, 601 East Main Street, Johnson City, TN 37601 | Public Works Department, 601 East Main Street, Johnson City, TN 37601 | September 29, 2016 | 480582
Washington (FEMA Docket No.: B-1637) | Unincorporated areas of Washington County (16-04-1191P) | The Honorable Dan Eldridge, Mayor, Washington County, 100 East Main Street, Jonesborough, TN 37659 | Washington County Zoning Department, 100 East Main Street, Jonesborough, TN 37659 | September 29, 2016 | 470265
Williamson (FEMA Docket No.: B-1645) | City of Franklin (15-04-8778P) | The Honorable Ken Moore, Mayor, City of Franklin, 109 3rd Avenue South, Franklin, TN 37064 | City Hall, 109 3rd Avenue South, Franklin, TN 37064 | September 30, 2016 | 470206
Texas:
Collin (FEMA Docket No.: B-1637) | City of Frisco (16-06-0556P) | The Honorable Maher Maso, Mayor, City of Frisco, 6101 Frisco Square Boulevard, Frisco, TX 75034 | Engineering Services Department, 6101 Frisco Square Boulevard, Frisco, TX 75034 | September 19, 2016 | 480134
Collin (FEMA Docket No.: B-1637) | City of McKinney (16-06-0082P) | The Honorable Brian Loughmiller, Mayor, City of McKinney, P.O. Box 517, McKinney, TX 75070 | Engineering Department, 221 North Tennessee Street, McKinney, TX 75069 | October 3, 2016 | 480135
Collin (FEMA Docket No.: B-1637) | City of McKinney (16-06-0593P) | The Honorable Brian Loughmiller, Mayor, City of McKinney, P.O. Box 517, McKinney, TX 75070 | Engineering Department, 221 North Tennessee Street, McKinney, TX 75069 | September 12, 2016 | 480135
Collin (FEMA Docket No.: B-1645) | City of McKinney (16-06-0922P) | The Honorable Brian Loughmiller, Mayor, City of McKinney, P.O. Box 517, McKinney, TX 75070 | Engineering Department, 221 North Tennessee Street, McKinney, TX 75069 | October 10, 2016 | 480135
Collin (FEMA Docket No.: B-1645) | City of Melissa (16-06-0922P) | Mr. Jason Little, Manager, City of Melissa, 3411 Barker Avenue, Melissa, TX 75454 | City Hall, 3411 Barker Avenue, Melissa, TX 75454 | October 10, 2016 | 481626
Collin (FEMA Docket No.: B-1645) | Unincorporated areas of Collin County (16-06-0922P) | The Honorable Keith Self, Collin County Judge, 2300 Bloomdale Road, Suite 4192, McKinney, TX 75071 | Collin County Engineering Department, 4690 Community Avenue, Suite 200, McKinney, TX 75071 | October 10, 2016 | 480130
Dallas (FEMA Docket No.: B-1637) | City of Coppell (16-06-0213P) | The Honorable Karen Hunt, Mayor, City of Coppell, P.O. Box 9478, Coppell, TX 75019 | Engineering Department, 265 Parkway Boulevard, Coppell, TX 75019 | October 3, 2016 | 480170
Fort Bend (FEMA Docket No.: B-1637) | Unincorporated areas of Fort Bend County (16-06-0935P) | The Honorable Robert Hebert, Fort Bend County Judge, 401 Jackson Street, Richmond, TX 77469 | Fort Bend County Engineering Department, 401 Jackson Street, Richmond, TX 77469 | September 30, 2016 | 480228
Kendall (FEMA Docket No.: B-1645) | Unincorporated areas of Kendall County (16-06-0702P) | The Honorable Darrel L. Lux, Kendall County Judge, 201 East San Antonio Avenue, Suite 122, Boerne, TX 78006 | Kendall County Engineering Department, 201 East San Antonio Avenue, Suite 101, Boerne, TX 78006 | October 5, 2016 | 480417
Waller (FEMA Docket No.: B-1637) | Unincorporated areas of Waller County (16-06-0935P) | The Honorable Carbett “Trey” Duhon III, Waller County Judge, 836 Austin Street, Suite 203, Hempstead, TX 77445 | Waller County Annex Building, 775 Business Highway 290 East, Hempstead, TX 77445 | September 30, 2016 | 480640
Utah:
Salt Lake (FEMA Docket No.: B-1645) | Town of Herriman (16-08-0214P) | The Honorable Carmen Freeman, Mayor, Town of Herriman, 13011 South Pioneer Street, Herriman, UT 84096 | Town Hall, 13011 South Pioneer Street, Herriman, UT 84096 | October 12, 2016 | 490252
Tooele (FEMA Docket No.: B-1645) | City of Tooele (16-08-0138P) | The Honorable Patrick Dunlavy, Mayor, City of Tooele, 90 North Main Street, Tooele, UT 84074 | Town Hall, 90 North Main Street, Tooele, UT 84074 | September 28, 2016 | 490145
Virginia: Prince William (FEMA Docket No.: B-1645) | Unincorporated areas of Prince William County (16-03-0170P) | Mr. Christopher E. Martino, Acting Prince William County Executive, 1 County Complex Court, Prince William, VA 22192 | Prince William County Department of Public Works, 5 County Complex Court, Prince William, VA 22192 | October 6, 2016 | 510119
West Virginia:
Harrison (FEMA Docket No.: B-1645) | City of Bridgeport (15-03-0999P) | The Honorable Robert Greer, Mayor, City of Bridgeport, 515 West Main Street, Bridgeport, WV 26330 | Engineering Department, 515 West Main Street, Bridgeport, WV 26330 | October 11, 2016 | 540055
Harrison (FEMA Docket No.: B-1645) | Unincorporated areas of Harrison County (15-03-0999P) | The Honorable Ronald Watson, President, Harrison County Commission, 301 West Main Street, Clarksburg, WV 26301 | Harrison County Planning Department, 301 West Main Street, Clarksburg, WV 26301 | October 11, 2016 | 540053

[FR Doc. 2017-02410 Filed 2-6-17; 8:45 am]

BILLING CODE 9110-12-P